DEPARTMENT OF AGRICULTURE

Rural Utilities Service

Notice of Availability of a Draft Environmental Impact Statement

AGENCY: Rural Utilities Service, USDA.

ACTION: Notice of availability of a draft environmental impact statement.

SUMMARY: Notice is hereby given that the Rural Utilities Service (RUS), has released for public review and comment a Draft Environmental Impact Statement (DEIS) for the Southern Intertie Project. The project being proposed by the Intertie Participants Group (IPG) is the construction of a 138 kilovolt (kV) transmission line between the Kenai Peninsula and Anchorage, Alaska. The RUS is the lead Federal agency in the environmental review process. The U.S. Fish and Wildlife Service (USFWS) and the U.S. Army Corps of Engineers (USACE) are serving as cooperating agencies.

Three public hearings have been scheduled during the review and comment period on the DEIS. The dates and locations of these hearings are described below.

DATES: The public hearing dates are:

1. October 30, 2001, 2 p.m. to 4 p.m., Washington, DC

2. November 13, 2001, 7 p.m. to 9 p.m., Anchorage, Alaska

3. November 14, 2001, 7 p.m. to 9 p.m., Soldotna, Alaska

ADDRESSES: The public hearing locations are:

1. Washington, DC—U.S. Fish and Wildlife Service, 4401 North Fairfax Drive, Room 200 A/B, Arlington, VA

2. Anchorage, AK—Loussac Library, 3600 Denali Street, Wilda Marston Theater, Anchorage, AK

3. Soldotna, AK—Kenai Peninsula Borough Administration Building, 144 North Binkley Street, Kenai Peninsula Borough Chambers, Soldotna, AK

FOR INFORMATION CONTACT: Lawrence R. Wolfe, Senior Environmental Protection Specialist, Engineering and Environmental Staff, USDA Rural Utilities Service, Stop 1571, 1400 Independence Avenue, SW., Washington, DC 20250-1571, telephone (202) 720-1784. The E-mail address is: lwolfe@rus.usda.gov.

SUPPLEMENTARY INFORMATION: The IPG has proposed a new 138 kV transmission line in order to improve the overall Railbelt electrical system reliability and energy transfer capabilities between the Kenai Peninsula and Anchorage. The IPG proposed alternative, the Enstar Route, would connect the Soldotna Substation on the Kenai Peninsula with the International Substation in Anchorage. This alternative would parallel the Enstar Pipeline through the Kenai National Wildlife Refuge (KNWR). A second alternative, the Tesoro Route, would connect the Bernice Lake Substation on the Kenai Peninsula with the Pt. Woronzof Substation in Anchorage. This alternative would parallel the Tesoro Pipeline from the Captain Cook State Recreational Area to Pt. Possession. The DEIS analyzes the potential impacts of constructing and operating a 138 kV transmission line along both the Enstar and Tesoro Routes. The DEIS evaluates a number of routing alternatives and related system improvements between the proposed substation connections, as well as alternative technologies and the no-action alternative.

The RUS, USACE, and USFWS will issue final decisions regarding the IPG proposal at the conclusion of the environmental review process. Regardless of which routing alternatives are selected, certain construction activities will require a Department of the Army permit. A copy of the Public Notice of Application for Permit is included in the DEIS. Comments on the permit application may be submitted to the USACE directly or may be included with other comments on the DEIS.

The USFWS must decide whether to issue a right-of-way permit to the IPG to construct and operate the proposed facilities on lands within the KNWR. The decision will be made in accordance with the requirements of Title XI of the Alaska National Interest Lands Conservation Act (ANILCA) (Pub. L. 96-487) for access by transportation and utility systems across conservation system units in Alaska. Title XI of ANILCA stipulates that public hearings be held in Washington, DC and Alaska during the DEIS review period.

The USFWS must also prepare a compatibility determination in accordance with the requirements of the National Wildlife Refuge System Administration Act (16 U.S.C. 668dd), as amended, for any proposed facilities on lands within the KNWR. The compatibility determination will be prepared by the USFWS following the public review and comment period on the DEIS. Public comments received during the review will be used in the compatibility determination process.

Copies of the DEIS are available for public review at the following public libraries in Anchorage: Z.J. Loussac Public Library; Chugiak-Eagle Public Library; Gerrish (Girdwood) Branch Library; Mountain View Branch Library; Muldoon Branch Library; and the Samson-Dimond Public Library. Copies will also be available for review at the following libraries on the Kenai Peninsula: Hope Community Library; Cooper Landing Community Library; Soldotna Public Library; and Kenai Community Library. In Washington, D.C., copies are available for review at RUS offices. A copy of the DEIS is also available for review online at http://www.usda.gov/rus/water/ees/eis.htm.

Public comments concerning the adequacy and accuracy of the DEIS will be accepted during a 60 day comment period ending December 5, 2001. Comments should be sent to Lawrence R. Wolfe at the address provided above.

Dated: September 26, 2001.
Alfred Rodgers,
Acting Assistant Administrator, Electric Program, Rural Utilities Service.

[FR Doc. 01-24740 Filed 10-2-01; 8:45 am]

BILLING CODE 3410-15-P